COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products and a service to the Procurement List that will be furnished by nonprofit agencies employing persons who are blind or have other severe disabilities and to delete products previously furnished by such agencies.

Comments Must be Received on or Before: 5/2/2011.

ADDRESSES: Committee for Purchase From People Who Are Blind or Severely Disabled, Jefferson Plaza 2, Suite 10800, 1421 Jefferson Davis Highway, Arlington, Virginia 22202-3259.

For Further Information or to Submit Comments Contact: Patricia Briscoe, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the products and service to the Government.

2. If approved, the action will result in authorizing small entities to furnish the products and service to the Government.

3. There are no known regulatory alternatives which would accomplish the objectives of the Javits-Wagner-O'Day Act (41 U.S.C. 46-48c) in connection with the products and service proposed for addition to the Procurement List.

Comments on this certification are invited. Commenters should identify the statement(s) underlying the certification on which they are providing additional information.

End of Certification

The following products and service are proposed for addition to Procurement List for production by the nonprofit agencies listed:

Products

Towel, Highly Absorbent, Synthetic “Shammy”

NSN: 7920-01-215-6568—15x15.

NSN: 7920-01-215-6569—20x23.

NPA: Industries for the Blind, Inc., West Allis, WI.

Contracting Activity: General Services Administration, Forth Worth, TX.

Coverage: A-List for the Total Government Requirement as aggregated by the General Services Administration.

Shirt, Winter Dress, USCG, Unisex, Long Sleeve, Blue

NSN: PGC496.

NPA: Oswego Industries, Inc., Fulton, NY.

Contracting Activity: Dept of Homeland Security, U.S. Coast Guard, HQ Contract Operations (CG-912), Washington, DC.

Coverage: C-List for 100% of the requirement of the U.S. Coast Guard, as aggregated by the U.S. Coast Guard.

Spinner, Salad

NSN: M.R. 850.

NPA: Industries for the Blind, Inc., West Allis, WI.

Contracting Activity: Military Resale-Defense Commissary Agency, Fort Lee, VA.

Coverage: C-List for the requirements of military commissaries and exchanges as aggregated by the Defense Commissary Agency.

Service

Service Type/Location: Custodial Service, Building #2596, Humphreys Engineer Center, 7701 Telegraph Road, Alexandria, VA.

NPA: MVLE, Inc., Springfield, VA.

Contracting Activity: Dept of the Army, XU W4LD USA HECSA, Alexandria, Va.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Paper, Toilet Tissue

NSN: 8540-01-483-8992.

NPA: Outlook-Nebraska, Inc., Omaha, NE.

Contracting Activity: General Services Administration, New York, NY.

Antifoam Compound, Silicon

NSN: 6850-01-506-6533.

NPA: East Texas Lighthouse for the Blind, Tyler, TX.

Contracting Activity: Defense Logistics Agency Support Troop, Philadelphia, PA.

Patricia Briscoe,
Deputy Director, Business Operations (Pricing and Information Management)

[FR Doc. 2011-7710 Filed 3-31-11; 8:45 am]

BILLING CODE 6353-01-P